DEPARTMENT OF HEALTH AND HUMAN SERVICES

Administration for Children and Families

[CFDA# 93.676]

Office of Refugee Resettlement Grant to Southwest Initiative Group for the Unaccompanied Alien Children's Program

AGENCY: Office of Refugee Resettlement, HHS.

ACTION: Grant award announcement.

SUMMARY: This notice is hereby given that a urgent grant award is being made to Southwest Initiatives Group, Nixon, TX in the amount of $797,152 in FY03, to provide shelter care and child welfare services to alien minors transferred into the custody of the Office of Refugee Resettlement (ORR) from the Department of Homeland Security by reason of their immigration status. The programs providing such services shall hereafter be referred to as the Unaccompanied Alien Children's Program (UAC).

The specific goal of the program is to provide residential shelter care and other related child welfare services to male and female alien children under 18 years of age who are in the custody of the ORR. The provision of services will include: a structured, safe and productive environment which meets or exceeds respective state guidelines and ORR minimum standards for services designed to serve minors in UAC care and custody. This announcement provides for the delivery of services to a population of at least 16 children. The program is licensed for up to 36 children. This grant is being made to Southwest Initiatives Group due to its strategic location in a major apprehension area, ability to expeditiously meet state licensing and ORR requirements to accommodate the current need for shelter care, emergency influx expansion potential and high quality of care.

Shelter care services will be provided for the interim period beginning when the minor is placed into the UAC, and ending when the minor is released from federal custody or when a final disposition of the minor's immigration proceedings occurs.

Grant and Cooperative Agreement Program Authority for this activity is contained in the Refugee Education Assistance Act of 1980, Title V, Section 501(c) Pub. L. 94 Stat.1799, 1809-1810, the Immigration and Naturalization Act and Section 462 of the Homeland Security Act.

Per the Flores v. Reno settlement agreement, no child apprehended by the Department of Homeland Security can remain in a secure detention setting for longer than 72 hours, unless warranted. Given the recent influx of apprehensions along the southwest border, ORR has the urgent need to increase the number of shelter beds to ensure that no child is placed in secure detention unless warranted.

The Recipient will provide assistance and services for each minor including, but not limited to:

1. Family Reunification Services;

2. Initial Program Orientation;

3. Individual Counseling;

4. Group Counseling;

5. Acculturation/Adaptation;

6. Education;

7. Access to Legal Services.

Other services that are necessary and appropriate for these minors may be provided if ORR determines in advance that the service is reasonable and necessary for a particular minor.

The Recipient will be expected to develop and implement an appropriate individualized service plan for the care and maintenance of each minor in accordance with his/her needs as determined in an intake assessment after initial placement. In addition, the Recipient is required to implement and administer a case management system which tracks and monitors each minor's progress to ensure that services are appropriate and to each minor's individual needs.

Services comply with State child welfare statutes and generally accepted child welfare standards, practices, principles, and procedures. Services offered provide for the safety and security of each child. The service will be provided in an age appropriate, culturally acceptable manner that meets the needs of each individual minor.

After the appropriate reviews, it has been determined that the need for additional shelter care beds and services in the southwest United States is compelling. The project period is July 1, 2003 through September 30, 2006.

FOR FURTHER INFORMATION CONTACT: Kenneth Tota, Office of Refugee Resettlement, Administration for Children and Families, 370 L'Enfant Promenade, SW., Washington, DC 20447, telephone (202) 205-3590.

Dated: July 31, 2003.
Nguyen Van Hanh,
Director, Office of Refugee Resettlement.

[FR Doc. 03-21785 Filed 8-25-03; 8:45 am]

BILLING CODE 4184-01-P